ENVIRONMENTAL PROTECTION AGENCY

[ER-FRL-8590-8]

Environmental Impacts Statements; Notice of Availability

Responsible Agency: Office of Federal Activities, General Information (202) 564-1399 or http://www.epa.gov/compliance/nepa/.

Weekly receipt of Environmental Impact Statements

Filed 02/16/2009 through 02/20/2009

Pursuant to 40 CFR 1506.9.

EIS No. 20090046, Draft EIS, BLM, OR, Timber Mountain Recreation Management Plan, Managing Off-Highway Vehicle (OHV), Medford District Office, Jackson County, OR, Comment Period Ends: 04/13/2009, Contact: Kristi Mastrofini, 541-618-2384.

EIS No. 20090047, Draft EIS, COE, AL, Foley Land Cut Portion of the Gulf Intracoastal Waterway, Proposed Construction of Residential, Commercial and Marine Development, Gulf Shores and Orange Beach, Baldwin County, AL, Comment Period Ends: 04/13/2009, Contact: Linda Brown, 251-694-3786.

EIS No. 20090048, Draft EIS, AFS, MT, Montanore Project, Proposes to Construct a Copper and Silver Underground Mine and Associated Facilities, Including a New Transmission Line, Plan-of-Operation Permit, Kootenai National Forest, Sanders County, MT, Comment Period Ends: 04/13/2009, Contact: Bobbie Lacklen, 406-283-7681.

EIS No. 20090049, Final EIS, COE, CA, San Diego Creek Watershed Special Area Management Plan/Watershed Streambed Alteration Agreement Process (SAMP/WSAA Process), Protecting and Enhancing Aquatic Resource and Permitting Reasonable Economic Development, Orange County, CA, Wait Period Ends: 03/30/2009, Contact: Corice Farrar, 213-452-3296.

EIS No. 20090050, Final EIS, NIG, CA, Graton Rancheria Casino and Hotel Project, Transfer of Land into Trust, Implementation, Federated Indians of Graton Rancheria (Tribe), Sonoma County, CA, Wait Period Ends: 03/30/2009, Contact: Brad Mehaffy, 202-632-7003.

EIS No. 20090051, Draft EIS, IBR, CA, Los Vaqueros Reservoir Expansion Project, To Develop Water Supplies Environmental Water Management that Supports Fish Protection, Habitat Management, and other Environmental Water Needs in the Delta and Tributary River Systems, San Francisco Bay Area, Contra Costa County, CA, Comment Period Ends: 04/13/2009, Contact: Sharon McHale, 916-989-7172.

Amended Notices

EIS No. 20080528, Draft EIS, USN, 00, Northwest Training Range Complex (NWTRC), To Support and Conduct Current, Emerging, and Future Training and Research, Development, Test and Evaluation (RDT&E) Activities, WA, OR and CA, Comment Period Ends: 03/11/2009, Contact: Kimberly Klerk, 360-396-0927.

Revision to FR Notice Published 12/29/2008: Extending the Comment from 2/8/2009 to 03/11/2009.

EIS No. 20090021, Draft EIS, AFS, CA, Inyo National Forest Motorized Travel Management Project, Implementation, Inyo, Mineral, Mono and Esmeralda Counties, CA, Comment Period Ends: 03/31/2009, Contact: Susan Joyce, 760-873-2516.

Revision to FR Notice Published 01/30/2009: Extending Comment Period from 03/30/2009 to 03/31/2009.

Dated: February 24, 2009.
Robert W. Hargrove,
Director, NEPA Compliance Division, Office of Federal Activities.

[FR Doc. E9-4227 Filed 2-26-09; 8:45 am]

BILLING CODE 6560-50-P